NATIONAL FOUNDATION ON THE ARTS AND HUMANITIES

Cooperative Agreement for Continued Management of the Fund for U.S. Artists at International Festivals and Exhibitions

AGENCY: National Endowment for the Arts.

ACTION: Notification of availability.

SUMMARY: The National Endowment for the Arts is requesting proposals leading to one (1) award of a Cooperative Agreement for continued management of the Fund for U.S. Artists at International Festivals and Exhibitions. This is a public-private partnership that ensures representation of the excellence, diversity, and vitality of the arts of the United States at international festivals and exhibitions worldwide. The work includes: identifying and resolving Fund operational issues; recommending policy positions; providing monthly activity and budget reports; linking artists with festivals abroad; promoting the Fund to U.S. artists; providing a structure to support performing artists and arts organizations invited to international festivals; and administering certain funds recommended for disbursal by the Federal Advisory Committee on International Exhibitions (FACIE) to support exhibitions that represent the United States at significant international venues. Those interested in receiving the solicitation package should reference Program Solicitation PS 00-06 in their written request and include two (2) self-addressed labels. Verbal requests for the Solicitation will not be honored. It is anticipated that the Program Solicitation will also be posted on the Endowment's Web site at http://www.arts.gov.

DATES: Program Solicitation PS 00-06 is scheduled for release approximately June 28, 2000 with proposals due on August 1, 2000

ADDRESSES: Requests for the Solicitation should be addressed to the National Endowment for the Arts, Grants & Contracts Office, Room 618, 1100 Pennsylvania Ave., NW., Washington, DC 20506.

FOR FURTHER INFORMATION CONTACT: William Hummel, Grants & Contracts Office, National Endowment for the Arts, Room 618, 1100 Pennsylvania Ave., NW., Washington, DC 20506 (202/682-5482).

William I. Hummel,
Coordinator, Cooperative Agreements.

[FR Doc. 00-14457 Filed 6-7-00; 8:45 am]

BILLING CODE 7036-01-M